ENVIRONMENTAL PROTECTION AGENCY

[ER-FRL-9059-9]

Environmental Impact Statements; Notice of Availability

Responsible Agency: Office of Federal Activities, General Information 202-564-5632 or https://www.epa.gov/nepa.

Weekly receipt of Environmental Impact Statements (EIS)

Filed December 13, 2021 10 a.m. EST Through December 17, 2021 10 a.m. EST

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20210185, Draft, FERC, LA, Hackberry Storage Project, Comment Period Ends: 02/07/2022, Contact: Office of External Affairs 866-208-3372.

EIS No. 20210186, Final Supplement, FERC, PA, Atlantic Coast Pipeline Restoration Project and Supply Header Restoration Project, Review Period Ends: 01/24/2022, Contact: Office of External Affairs 866-208-3372.

EIS No. 20210187, Draft, USFS, UT, Southern Monroe Mountain Allotments Livestock Grazing Authorization, Comment Period Ends: 02/07/2022, Contact: Jason Kling 435-896-1080.

Dated: December 17, 2021.
Cindy S. Barger,
Director, NEPA Compliance Division, Office of Federal Activities.

[FR Doc. 2021-27863 Filed 12-22-21; 8:45 am]

BILLING CODE 6560-50-P